DEPARTMENT OF TRANSPORTATION

Research and Special Programs Administration Office of Hazardous Materials Safety

Notice of Applications for Modification of Exemption

AGENCY: Research and Special Programs Administration, DOT.

ACTION: List of application for modification of exemption.

SUMMARY: In accordance with the procedures governing the application for, and the processing of, exemptions from the Department of Transportation's Hazardous Material Regulations (49 CFR Part 107, Subpart B), notice is hereby given that the Office of Hazardous Materials Safety has received the application described herein. This notice is abbreviated to expedite docketing and public notice. Because the sections affected, modes of transportation, and the nature of application have been shown in earlier Federal Register publications, they are not repeated here. Request of modifications of exemptions (e.g., to provide for additional hazardous materials, packaging design changes, additional mode of transportation, etc.) are described in footnotes to the application number. Application numbers with the suffix “M” denote a modification request. The applications have been separated from the new application for exemption to facilitate processing.

DATES: Comments must be received on or before February 7, 2005.

Address Comments To: Record Center, Research and Special Programs Administration, U.S. Department of Transportation, Washington, DC 20590.

Comments should refer to the application number and be submitted in triplicate. If Confirmation of receipt of comments is desired, include a self-addressed stamped postcard showing the exemption number.

FOR FURTHER INFORMATION CONTACT: Copies of the application are available for inspection in the Records Center, Nassif Building, 400 7th Street, SW., Washington DC or at http://dms.dot.gov.

This notice of receipt of applications for modification of exemption is published in accordance with Part 107 of the Federal hazardous materials transportation law (49 U.S.C. 5117(b); 49 CFR 1.53(b)).

Issued in Washington, DC, on January 13, 2005.
R. Ryan Posten,
Exemptions Program Officer, Office of Hazardous Materials Safety Exemptions & Approvals.

Application No. | Docket No. | Applicant | Regulation(s) affected | Modification of exemption | Nature of exemption thereof
7041-M |  | Albemarle Corporation Baton Rouge, LA | 49 CFR 173.244 | 7041 | To modify the exemption to authorize additional proper shipping names for the Division 4.2 and 4.3 materials transported in non-DOT specification cargo tanks equipped with an agitator.
9198-M |  | U.S. Dept. of the Interior, National Business Center, Aviation Management Boise, ID | 49 CFR Subchapter C; 175.5(a)(2) | 9198 | To modify the exemption to eliminate the requirement for an extra person on board the aircraft during transport of hazardous materials and to update the DOI-USDA Handbook/Guide.
9672-M |  | Albemarle Corp. Baton Rouge, LA | 49 CFR 178.337-8(a)(3) | 9672 | To modify the exemption to authorize additional proper shipping names for the Division 4.2 and 4.3 materials transported in DOT Specification cargo tanks with a filling/discharge opening without a remote self-closing internal valve.
11383-M |  | NASA Washington, DC | 49 CFR 173.40(a) & (c); 173.158(b), (g), (h); 173.192(a); 173.336 | 11383 | To modify the exemption to authorize the transportation of an additional Division 2.3 material in non-DOT specification stainless steel cylinders.
11799-M |  | Cryonix, Inc. Rockville, MD | 49 CFR 173.196 | 11799 | To modify the exemption to authorize alternatives in packaging types, operating temperatures, quantity of specimens, and in transport vehicles for transporting infectious substances by private motor vehicle.
11993-M | RSPA-97-3100 | Key Safety Systems, Inc. (formerly BREED Tech.) Lakeland, FL | 49 CFR 173.301(a)(1); 173.302a | 11993 | To modify the exemption to update the PSNs and section cites, authorize relief from certain marking and bracket welding process requirements and add passenger-carrying aircraft as a mode of transportation.
12124-M | RSPA-98-4309 | Albemarle Corporation Baton Rouge, FL | 49 CFR 173.242; 178.245-1(c); 178.245-1(d)(4) | 12124 | To modify the exemption to authorize additional proper shipping names for the Division 4.2 and 4.3 materials transported in non-DOT specification portable tanks.
12245-M | RSPA-99-5489 | GE Betz (formerly BetzDearborn) Trevose, PA | 49 CFR 177.834(h); 172.302(c) | 12245 | To modify the exemption to add a Division 6.1 material which may be discharged from composite Intermediate Bulk Containers (IBCs) without removing the IBC from the vehicle on which it is transported.
13246-M | RSPA-03-15625 | McLane Company, Inc. Temple, TX | 49 CFR 172.102(c)(4) N10 | 13246 | To modify the exemption to authorize the use of an additional plastic non-DOT specification outer packaging for the transportation of lighters.
13327-M | RSPA-03-16602 | Hawk FRP LLC Ardmore, OK | 49 CFR 172.203(a); 178.345-1; 180.413 | 13327 | To modify the exemption to authorize modification of rollover damage protection, as approved by a DCE, when necessary for existing exempted manways.
13337-M | RSPA-04-1687 | Albemarle Corporation Baton Rouge, LA | 49 CFR 172.301(c); 172.302(c); 17683(b)&(d) | 13337 | To modify the exemption to authorize additional proper shipping names for the Division 4.2 and 4.3 materials transported in certain authorized packaging without meeting “away from” segregation requirements.
13961-M | RSPA-04-19297 | 3AL Testing Corporation Denver, CO | 49 CFR 172.203(a); 172.301(c); 180.205(f),(g); 180.209(a) | 13961 | To reissue the exemption originally issued on an emergency basis for the transportation of DOT Specification 3AL cylinders containing Division 2.1, 2.2 and 2.3 materials when retested by a 100% ultrasonic examination in lieu of the internal visual and hydrostatic retest.
13997-M | RSPA-04-19643 | Maritime Helicopters Homer, AK | 49 CFR 172.101(9b); 172.302(c) | 13997 | To reissue the exemption originally issued on an emergency basis for the transportation of a Division 2.1 mateial in DOT Specification 51 portable tanks that exceed the quantities limitation by cargo aircraft.
13998-M | RSPA-04-19651 | 3 AL Testing Corp. Denver, CO | 49 CFR 172.203(a); 172.302a(b)(2),(4)(5); 180.205(f)(g); 180.209(a),(b)(1)(iv) | 13998 | To reissue the exemption originally issued on an emergency basis for the transportation of DOT Specification 3A, 3AA, 3BN cylinders containing Division 2.1, 2.2 and 2.3 materials when retested by a 100% ultrasonic examination in lieu of the internal visual and hydrostatic retest.
14005-M | RSPA-04-19585 | Scientific Cylinder International, LLC Castle Rock, CO | 49 CFR 17.203(a), 172.301(c), 180.205(f)(4), 180.205(g), 180.209(a) | 14005 | To reissue the exemption originally issued on an emergency basis for the transportation of DOT Specification 3A, 3AA, 3BN cylinders containing Division 2.1, 2.2 and 2.3 materials when retested by a 100% ultrasonic examination in lieu of the internal visual and hydrostatic retest.
14006-M | RSPA-04-19586 | Scientific Cylinder International, LLC Castle Rock, CO | 49 CFR 172.203(a), 172.301(c), 180.205(f)(4), 180.205(g), 180.209(a) | 14006 | To reissue the exemption originally issued on an emergency basis for the transportation of DOT Specification 3 AL cylinders containing Division 2.1, 2.2 and 2.3 materials when retested by a 100% ultrasonic examination in lieu of the internal visual and hydrostatic retest.

[FR Doc. 05-1060 Filed 1-19-05: 8:45am]

BILLING CODE 4909-60-M